DEPARTMENT OF VETERANS AFFAIRS

[OMB Control No. 2900-0491]

Agency Information Collection Activity: Community Residential Care (CRC) Program—Recordkeeping, Incident Reporting, Applications

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before December 6, 2024.

ADDRESSES: Comments must be submitted through www.regulations.gov.

FOR FURTHER INFORMATION CONTACT:

Program-Specific information: Rebecca Mimnall, 202-695-9434, vhacopra@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Community Residential Care (CRC) Program—Recordkeeping, Incident Reporting, Applications (VA Forms 10-2407 and 10-387).

OMB Control Number: 2900-0491. https://www.reginfo.gov/public/do/PRASearch (Once at this link, you can enter the OMB Control Number to find the historical versions of this Information Collection).

Type of Review: Revision of a currently approved collection.

Abstract: VA is authorized under 38 U.S.C. 1730 to assist veterans by referring them for placement, and aiding veterans in obtaining placement, in Community Residential Care (CRC) facilities, which include Medical Foster Homes (MFHs). One of the standards a CRC facility must meet is the requirement to maintain records on each resident in a secure place. Under 38 CFR 17.63(i), facility records must include emergency notification procedures and a copy of all signed agreements with the resident. These records must be maintained by the CRC facility, and the CRC facility must make those records available for VA inspection upon request. An MFH is a subtype of CRC and, under 38 CFR 17.74(q), is required to comply with the recordkeeping requirements of 38 CFR 17.63(i). In addition, the CRC facility must maintain and make available, upon request of the approving official, records related to CRC staff requirements and provide that the CRC facility has sufficient, qualified staff on duty and available to care for the residents and ensure the health and safety of each resident.

VA is adding to this collection the requirement under 38 CFR 17.63(j)(3) that CRC facilities and MFHs report alleged violations involving mistreatment, neglect, or abuse of a veteran to the approving official. VA requires the CRC facility to document and investigate evidence of an alleged violation, including misappropriation of resident property. VA views the reporting, documenting, and investigating of an alleged incident and the subsequent report of the results of the investigation to be one collection of information.

VA Forms 10-2407 and 10-387 also are being included in this collection. The 10-2407 form is the CRC application used by residential care home sponsors seeking VA approval to provide care to veterans. The 10-387 form is the MFH application used by medical foster home caregivers seeking VA approval to provide care to veterans. The applicants supply references and agree to a VA inspection of the home, a monthly rate, and compliance with other VA standards for residential care. In addition, MFH applicants submit copies of applicable licenses with the application. This information is collected under the authority of 38 U.S.C. 1720 and 38 U.S.C.1730.

Total Annual Burden: 4,484 hours.

Total Annual Responses: 3,400.

Recordkeeping

Affected Public: Individuals or Households.

Estimated Annual Burden: 1,425 hours.

Estimated Average Burden per Respondent: 90 minutes.

Frequency of Response: Once annually.

Estimated Number of Respondents: 950.

Incident Reporting

Affected Public: Individuals or Households.

Estimated Annual Burden: 2,850 hours.

Estimated Average Burden per Respondent: 180 minutes.

Frequency of Response: Once annually.

Estimated Number of Respondents: 950.

CRC Application—VA Form 10-2407

Affected Public: Individuals or Households.

Estimated Annual Burden: 42 hours.

Estimated Average Burden per Respondent: 5 minutes.

Frequency of Response: Once annually.

Estimated Number of Respondents: 500.

MFH Application—VA Form 10-387

Affected Public: Individuals or Households.

Estimated Annual Burden: 167 hours.

Estimated Average Burden per Respondent: 10 minutes.

Frequency of Response: Once annually.

Estimated Number of Respondents: 1,000.

(Authority: 44 U.S.C. 3501 et seq.)

Maribel Aponte,
VA PRA Clearance Officer, Office of Enterprise and Integration/Data Governance Analytics, Department of Veterans Affairs.

[FR Doc. 2024-23052 Filed 10-4-24; 8:45 am]

BILLING CODE 8320-01-P